DEPARTMENT OF HEALTH AND HUMAN SERVICES

Administration for Children and Families

[OMB No.: 0970-0374]

Submission for OMB Review; Comment Request

Title: Head Start Eligibility Verification

Description: The Office of Head Start (OHS) within the Administration for Children and Families, United States Department of Health and Human Services, proposes to renew, with changes, its authority for record keeping requirements associated with Head Start eligibility verification. Changes are minor and provide some additional clarification. OHS developed the form to assist grantees in meeting Head Start record keeping requirements for eligibility determination records. However, Head Start programs are not required to use this specific form. Programs may either adopt the form or design a new form to meet the eligibility requirements.

Respondents: Head Start and Early Head Start program grant recipients.

Annual Burden Estimates
Instrument | Number of respondents | Number of responses per respondent | Average burden hours per response | Total burden hours
Eligibility Verification Form | 1,574 | 428 | .025 | 16,842

Estimated Total Annual Burden Hours: 16,842.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Mary B. Jones,
ACF/OPRE Certifying Officer.

[FR Doc. 2019-05743 Filed 3-25-19; 8:45 am]

BILLING CODE 4184-40-P